DEPARTMENT OF COMMERCE

International Trade Administration

[A-602-813, A-403-806]

Silicon Metal From Australia and Norway: Postponement of Preliminary Determinations in the Less-Than-Fair-Value Investigations

AGENCY: Enforcement and Compliance, International Trade Administration, Department of Commerce.

DATES: Applicable September 12, 2025.

FOR FURTHER INFORMATION CONTACT: Jacob Waddell at (202) 482-1369 (Australia) or Brittany Bauer at (202) 482-3860 (Norway), AD/CVD Operations, Enforcement and Compliance, International Trade Administration, U.S. Department of Commerce, 1401 Constitution Avenue NW, Washington, DC 20230.

SUPPLEMENTARY INFORMATION:

Background

On May 14, 2025, the U.S. Department of Commerce (Commerce) initiated less-than-fair-value (LTFV) investigations of imports of silicon metal from Australia and Norway.¹ Currently, the preliminary determinations in these LTFV investigations are due to be issued no later than October 1, 2025.

¹ See Silicon Metal from Angola, Australia, the Lao People's Republic, and Norway: Initiation of Less-than-Fair-Value Investigations, 90 FR 21741 (May 21, 2025).

Postponement of Preliminary Determinations

Section 733(b)(1)(A) of the Tariff Act of 1930, as amended (the Act), requires Commerce to issue the preliminary determination in an LTFV investigation within 140 days after the date on which Commerce initiated the investigation. However, section 733(c)(1)(A)(b)(1) of the Act permits Commerce to postpone the preliminary determination until no later than 190 days after the date on which Commerce initiated the investigation if: (A) the petitioner makes a timely request for a postponement; or (B) Commerce concludes that the parties concerned are cooperating, that the investigation is extraordinarily complicated, and that additional time is necessary to make a preliminary determination. Under 19 CFR 351.205(e), the petitioner must submit a request for postponement 25 days or more before the scheduled date of the preliminary determination and must state the reasons for the request. Commerce will grant the request unless it finds compelling reasons to deny the request.

Australia

On September 5, 2025, the petitioners ² submitted a timely request that Commerce postpone the preliminary determination in the LTFV investigation.³ The petitioners stated that they request postponement because Commerce has only recently issued supplemental questionnaires for Sections A-D to the mandatory respondent in Australia, and thus, additional time will be necessary to allow Commerce and the petitioners to fully develop the record.

² The petitioners are Ferroglobe USA, Inc. and Mississippi Silicon LLC.

³ See Petitioners' Letter, “Petitioners' Request to Postpone Preliminary Antidumping Duty Determination,” dated September 5, 2025.

Norway

On September 5, 2025, the petitioners submitted a timely request that Commerce postpone the preliminary determination in the LTFV investigation.⁴ The petitioners stated that they request postponement because Commerce has not yet issued supplemental questionnaires for Sections B-E to the mandatory respondent, and the initial response to Section E of the questionnaire from the mandatory respondent in Norway has yet to be submitted. Therefore, additional time will be necessary to allow Commerce and the petitioners to fully develop the record.

⁴ Id.

For the reasons stated above and because there are no compelling reasons to deny the request, Commerce, in accordance with section 733(c)(1)(A) of the Act, is postponing the deadline for the preliminary determinations by 50 days (i.e., 190 days after the date on which these investigations were initiated). As a result, Commerce will issue its preliminary determinations no later than November 20, 2025. In accordance with section 735(a)(1) of the Act and 19 CFR 351.210(b)(1), the deadline for the final determinations of these investigations will continue to be 75 days after the date of the preliminary determinations, unless postponed at a later date.

Notification to Interested Parties

This notice is issued and published pursuant to section 733(c)(2) of the Act and 19 CFR 351.205(f)(1).

Dated: September 9, 2025.
Christopher Abbott,
Deputy Assistant Secretary for Policy and Negotiations, performing the non-exclusive functions and duties of the Assistant Secretary for Enforcement and Compliance.

[FR Doc. 2025-17684 Filed 9-11-25; 8:45 am]

BILLING CODE 3510-DS-P